DEPARTMENT OF HOUSING AND URBAN DEVELOPMENT

[Docket No. FR-6418-N-03]

Announcement of Funding Awards

AGENCY: Office of Chief Financial Officer, HUD.

ACTION: Notice.

SUMMARY: In accordance with the Department of Housing and Urban Development Reform Act of 1989, this announcement notifies the public of funding decisions made by the Department in competitions for funding under the Notices of Funding Opportunity (NOFOs) and Notices for the following program(s): Section 4 Capacity Building for Community Development and Affordable Housing, Lead Hazard Reduction Grant Program, Lead Hazard Reduction Capacity Building Grant Program, Lead Risk Assessment Demonstration Grant Program, Choice Neighborhoods Implementation Grants, FY21 Foster Youth to Independence Initiative Notice, FY22 HUD-Veterans Affairs Supportive Housing (HUD-VASH) Notice, and FY 22 PIH Notice 2022-19: Mainstream Vouchers.

FOR FURTHER INFORMATION CONTACT: Dorthera Yorkshire, Director, Grants Management and Oversight, Office of the Chief Financial Officer (Systems), telephone (202) 402-4336 (this is not a toll-free number), email AskGMO@hud.gov, or the contact person listed in each appendix. HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

HUD posted the FY2021 Section 4 Capacity Building for Community Development and Affordable Housing NOFO on grants.gov April 05, 2022, (FR-6500-N-07). The competition closed on June 06, 2022. HUD rated and selected for funding based on selection criteria contained in the notice. This competition awarded $41,000,000 to 3 recipients to carry out affordable housing and community development activities that benefit low- and moderate-income families and persons. For FY 2021 there is $41,000,000 available to carry out eligible activities related to community development and affordable housing projects and programs for the Section 4, of which at least $5,000,000 shall be made available for rural capacity building activities.

HUD posted FY 2022 Lead Hazard Reduction Grant Program on grants.gov June 17, 2022 (FR-6600-N-13). The competition's closing date was extended and it closed on June 27, 2023. HUD rated and selected applications for funding based on selection criteria contained in the NOFO. This competition awarded $123,106,482 (Lead $112,224,362 and Healthy Homes Supplement $10,882,120) to 28 recipients to maximize the number of children under the age of 6 protected from lead poisoning and other housing-related health and safety hazards.

HUD posted FY 2022 Lead Hazard Reduction Capacity Building Grant Program on grants.gov April 27, 2023 (FR-6600-N-31). The competition closed on June 27, 2023. HUD rated and selected applications for funding based on selection criteria contained in the NOFO. This competition awarded $16,363,920 to 8 recipients to develop the infrastructure to identify and control lead-based paint hazards in privately-owned rentals or owner-occupied housing. The capacity building program focus areas include training staff and contractors, building partnerships and local coalitions, identifying, and assessing potential target areas, develop and implement outreach and marketing, and develop program data sharing and referrals.

HUD posted FY 2022 Lead Risk Assessment Demonstration Grant Program on grants.gov April 27, 2023 (FR-6600-N-86). The competition closed on June 20, 2023. HUD rated and selected applications for funding based on selection criteria contained in the NOFO. This competition awarded $600,000 to 2 recipients that are Public Housing Authorities to demonstrate the feasibility of conducting lead-based paint risk assessments or lead hazard screens in pre-1978 Housing Choice Voucher assistance (HCV) units (as described at 42 U.S.C. 1437f(o)) occupied or to be occupied by children under the age of 6.

HUD posted the FY 2022 Choice Neighborhoods Implementation Grants on grants.gov September 30, 2022, (FR-6600-N-34). The competition closed on January 11, 2023. HUD rated and selected for funding based on selection criteria contained in the notice. This competition awarded $370,000,000 to 8 recipients to redevelop severely distressed public and HUD-assisted housing. Grantees leverage significant public and private dollars to support locally driven strategies that address struggling neighborhoods with distressed public or HUD-assisted housing through a comprehensive approach to neighborhood transformation. Local leaders, residents, and stakeholders, such as public housing authorities, cities, schools, police, business owners, nonprofits, and private developers, come together to create and implement a plan that revitalizes distressed HUD housing and addresses the challenges in the surrounding neighborhood.

HUD posted the FY21 Foster Youth to Independence Initiative Notice on grants.gov June 06, 2022 (PIH 2021-26). HUD rated and selected for funding based on selection criteria contained in the Notice. This competition awarded $7,215,489 to 97 recipients to Housing Choice Voucher (HCV) assistance available to Public Housing Agencies (PHAs) in partnership with Public Child Welfare Agencies (PCWAs). This funding opportunity is provided on a non-competitive rolling basis.

HUD posted the FY22 HUD-Veterans Affairs Supportive Housing (HUD-VASH) Notice on grants.gov August 16, 2022 (PIH 2022-26). The competition closed September 16, 2022. HUD rated and selected for funding based on selection criteria contained in the Notice. This competition awarded $25,373,842 to 101 recipients to enable homeless veterans to access affordable housing along with an array of supportive services from the Department of Veterans Affair.

HUD posted the FY 22 PIH Notice 2022-19: Mainstream Vouchers Notice on grants.gov June 13, 2022. The competition closed on July 14, 2022. HUD rated and selected for funding based on selection criteria contained in the Notice. This competition awarded $29,753,638 ($24,726,138 for new vouchers and $5,027,500 for extraordinary administrative fees) to 150 recipients to serve a special population of households. Mainstream Vouchers serve households that include one or more non-elderly persons with disabilities, defined as any family that includes a person with disabilities who is at least 18 years old and not yet 62 years old.

In accordance with section 102(a)(4)(C) of the Department of Housing and Urban Development Reform Act of 1989 (103 Stat. 1987, 42 U.S.C. 3545(a)(4)(C)), the Department is publishing the awardees and the amounts of the awards in Appendices A-H of this document.

Dorthera Yorkshire,
Director, Grants Management and Oversight, Office of the Chief Financial Officer.

Appendix A

Section 4 Capacity Building for Community Development and Affordable Housing Fiscal Year 2021 (FR-6500-N-07)
[Contact: La Ticia Wilson (202) 402-5890]
Organization name | Street address | City | ST | Zip code | Award
Enterprise Community Partners | 70 Corporate Center, 11000 Broken Land Parkway, Suite 700 | Columbia | MD | 21044 | $15,000,000
Local Initiatives Support Corporation | 501 Seventh Avenue, 7th Floor | New York | NY | 10018 | 17,000,000
Habitat for Humanity International | 121 Habitat Street | Americus | GA | 31709 | 9,000,000
Total Awards |  |  |  |  | 41,000,000

Appendix B

FY2022 Lead Hazard Reduction Grant Program (FR-6600-N-13)
[Contact: Yolanda Brown (202) 402-7596]
Organization name | Street address | City | ST | Zip code | Award
City of Florence | 110 W College Street | Florence | AL | 35630-0001 | $1,500,000.00
City of Selma | 222 Broad Street | Selma | AL | 36701-4540 | 2,215,500.00
Alameda County Healthy Homes | 2000 Embarcadero, Ste. 300 | Oakland | CA | 94606 | 5,700,000.00
City of Fontana | 8353 Sierra Ave | Fontana | CA | 92335 | 4,400,000.00
City of New Haven | 54 Meadow Street, 9th Floor | New Haven | CT | 06519 | 7,765,930.22
City of Council Bluffs | 209 Pearl Street | Council Bluffs | IA | 51503-4270 | 1,654,303.47
City of Marshalltown | 24 North Center Street | Marshalltown | IA | 50158 | 5,026,330.00
City of Muscatine | 215 Sycamore St | Muscatine | IA | 52761-3839 | 2,956,932.31
City of Sioux City | 405 6th Street | Sioux City | IA | 51102 | 5,187,989.00
County of Cerro Gordo | 2570 4th Street SW | Mason City | IA | 50401-3435 | 2,193,665.93
County of McHenry | 2200 North Seminary Avenue | Woodstock | IL | 600982637 | 2,032,420.00
City of Monroe | 3901 Jackson St | Monroe | LA | 71202-5715 | 4,496,699.00
Jefferson Parrish | 1221 Elmwood Park Boulevard, Suite 605 | Jefferson | LA | 70123-2337 | 5,700,000.00
Maine State Housing Authority | 26 Edison Drive | Augusta | ME | 04330 | 5,700,000.00
City of Worcester | 455 Main Street, Suite 405 | Worcester | MA | 01608 | 4,100,000.00
City of Grand Rapids | 300 Monroe Ave. NW | Grand Rapids | MI | 49503 | 6,600,000.00
Michigan Department of Health & Human Services | 235 S Grand Ave., Suite 800 | Lansing | MI | 48933-1805 | 7,997,798.16
Minnesota Department of Health | 625 Robert Street North | St. Paul | MN | 55164-0975 | 3,846,869.00
Two Rivers Public Health Department | 516 W 11th Street | Kearney | NE | 68845-7310 | 1,345,195.00
City of East Orange | 44 City Hall Plaza | East Orange | NJ | 07018-4502 | 4,801,958.60
Broome County | 225 Front St | Binghamton | NY | 13905 | 6,300,000.00
City of Utica | 1 Kennedy Plaza | Utica | NY | 13502 | 3,974,989.00
County of Niagara | 5467 Upper Mountain Road | Lockport | NY | 14094-1894 | 3,300,000.00
City of Charlotte | 600 East Trade St | Charlotte | NC | 28202 | 3,573,037.97
Puerto Rico Public Housing Administration | 606 Barbosa Ave | San Juan | PR | 00923 | 3,520,080.00
City of Memphis | 170 N. Main Street, 3rd Fl | Memphis | TN | 38103-1877 | 5,700,000.00
Salt Lake County | 2001 South State Street | Salt Lake City | UT | 84190-2770 | 5,816,785.00
City of Milwaukee | 841 N Broadway | Milwaukee | WI | 53202 | 5,700,000.00
Total |  |  |  |  | 123,106,482.66

Appendix C

FY2022 Lead Hazard Reduction Capacity Building Grant Program (FR-6600-N-31)
[Contact: Yolanda Brown (202) 402-7596]
Organization name | Street address | City | ST | Zip code | Award
Triangle J Council of Governments | 4307 Emperor Boulevard, Suite 110 | Durham | NC | 27703-8088 | 654,507.00
County of Ventura | 2240 E Gonzales Rd, Ste. 270 | Oxnard | CA | 93036 | 2,500,000.00
City of Montgomery | 103 North Perry Street | Montgomery | AL | 36104 | 716,650.00
City of Saint Petersburg | 175 5th St. N | St Petersburg | FL | 33701 | 2,500,000.00
Massachusetts Department of Public Health | 250 Washington Street | Boston | MA | 02108 | 2,500,000.00
County of Kent | 300 Monroe Ave. NW | Grand Rapids | MI | 49503 | 2,493,629.00
Town of Fort Deposit | 260 Old Fort Rd | Fort Deposit | AL | 36032 | 2,499,134.00
Cattaraugus County Health Department | 1 Leo Moss Drive | Olean | NY | 14760 | 2,500,000.00
Total |  |  |  |  | 16,363,920.00

Appendix D

FY2022 Lead Risk Assessment Demonstration Grant Program (FR-6600-N-86)
[Contact: Bruce Haber 202-402-7699]
Organization name | Street address | City | ST | Zip code | Award
Eastern Iowa Regional Housing Authority | 7600 Commerce Park | Dubuque | IA | 52002-9673 | $300,000.00
Lucas Metropolitan Housing Authority | 424 Jackson Street | Toledo | OH | 43604-1410 | 300,000.00
Total |  |  |  |  | 600,000.00

Appendix E

FY2022 Choice Neighborhoods Implementation Grants (FR-6600-N-34)
[Contact: Luci Blackburn (202) 402-4190]
Organization | Address | City | ST | ZIP | Award amount
Atlanta Housing Authority | 230 John Wesley Dobbs Ave. NE | Atlanta | GA | 30303 | $40,000,000.00
City of Tucson | 255 W Alameda Street | Tucson | AZ | 85701 | 50,000,000.00
Housing Authority of the Birmingham District | 1826 3rd Avenue South | Birmingham | AL | 35233 | 50,000,000.00
Housing Authority of the City of Pittsburgh | 200 Ross Street, 9th Floor | Pittsburgh | PA | 15219 | 50,000,000.00
Lake Charles Housing Authority | 800 Bilbo St., Suite C | Lake Charles | LA | 70601 | 40,000,000.00
Miami-Dade County | MDC Public Housing and Community Development, 701 NW 1st Court, 16th Floor | Miami | FL | 33128 | 40,000,000.00
Philadelphia Housing Authority | 2013 Ridge Avenue | Philadelphia | PA | 19121 | 50,000,000.00
Wilmington Housing Authority | 400 North Walnut Street | Wilmington | DE | 19801 | 50,000,000.00
Total |  |  |  |  | 370,000,000.00

Appendix F

FY22 Foster Youth to Independence Initiative (PIH-2023-4)
[Contact: Michelle Daniels, (202) 402-6051 and Ryan Jones (202) 402-2677]
Organization name | Street address or P.O. Box | City | State | Zip code | Award amount
Housing Authority Tuscaloosa | 2117 Jack Warner Parkway | Tuscaloosa | AL | 35401 | $6,372.00
Housing Authority of Northport | 3500 West Circle | Northport | AL | 35476 | 6,724.00
Housing Authority of Alexander City | 2110 County Road | Alexander City | AL | 35010 | 4,263.00
Housing Authority of Little Rock | 100 South Arch Street | Little Rock | AR | 72201 | 24,162.00
City of Flagstaff Housing Authority | 3481 Fanning Drive | Flagstaff | AZ | 86004 | 51,591.00
County of San Mateo Housing Authority | 264 Harbor Boulevard | Belmont | CA | 94002 | 340,677.00
City of San Luis Obispo Housing Authority | 487 Leff Street | San Luis Obispo | CA | 93401 | 96,255.00
City of Santa Ana Housing Authority | 20 Civic Center Plaza, 2nd Floor | Santa Ana | CA | 92701 | 376,512.00
Jefferson County Housing Authority | 11941 W 48th Ave | Wheat Ridge | CO | 80033 | 12,455.00
Norwalk Housing Authority | 24½ Monroe Street | Norwalk | CT | 06856 | 17,251.00
Connecticut Dept of Housing | 505 Hudson Street | Hartford | CT | 06106 | 307,684.00
Miami Dade Housing Authority | 701 NW 1st Court | Miami | FL | 33136 | 348,096.00
Housing Authority of Brevard County | 1401 Guava Ave | Melbourne | FL | 32935 | 70,001.00
Hialeah Housing Authority | 75 E 6th Street | Hialeah | FL | 33010 | 250,226.00
Housing Authority of Palm Beach County | 3333 Forest Hill Blvd | West Palm Beach | FL | 33406 | 107,230.00
Housing Authority of Deerfield Beach | 533 South Dixie Hwy., Suite 201 | Deerfield Beach | FL | 33441 | 218,841.00
Housing Authority of the City of Brunswick | P.O. Box 1118 | Brunswick | GA | 31521 | 16,312.00
Council Bluffs Municipal Housing Agency | 505 S Sixth St | Council Bluffs | IA | 51501 | 12,886.00
City of Davenport, Iowa | 226 W 4th St | Davenport | IA | 52801 | 40,103.00
Upper Explorerland Regional | 325 Washington Street | Decorah | IA | 52101 | 3,680.00
Housing Authority of Champaign County | 2008 N Market St | Champaign | IL | 61822 | 72,896.00
Indianapolis Housing Agency | 1919 North Meridian Street | Indianapolis | IN | 46202 | 184,224.00
Housing Authority City of Jeffersonville | 206 Eastern Boulevard | Jeffersonville | IN | 47130 | 62,844.00
Housing Authority City of Elkhart | 1396 Benham Avenue | Elkhart | IN | 46516 | 42,216.00
East Chicago Housing Authority | 4444 Railroad Ave | East Chicago | IN | 46312 | 161,367.00
Noblesville Housing Authority | 320 Kings Lane | Noblesville | IN | 46060 | 35,830.00
Boston Housing Authority | 52 Chauncy Street | Boston | MA | 02111 | 430,904.00
Springfield Housing Authority | 60 Congress Street | Springfield | MA | 01101 | 138,724.00
Fitchburg Housing Authority | 50 Day Street | Fitchburg | MA | 01420 | 33,882.00
Hagerstown Housing Authority | 35 W Baltimore Street | Hagerstown | MD | 21740 | 40,952.00
Housing Authority of the City of Rockville | 1300 Piccard Drive Suite #203 | Rockville | MD | 20850 | 58,760.00
Wicomico County Housing Authority | 911 Booth Street | Salisbury | MD | 21801 | 8,510.00
Housing Authority Prince George's County | 9200 Basil Court | Largo | MD | 20774 | 379,842.00
Howard County Housing Commission | 9770 Patuxent Woods Drive | Columbia | MD | 21046 | 27,025.00
Queen Anne's County Housing Authority | P.O. Box 280 | Centreville | MD | 21617 | 9,869.00
Portland Housing Authority | 14 Baxter Boulevard | Portland | ME | 04101 | 82,583.00
Minneapolis PHA | 1001 Washington Avenue N | Minneapolis | MN | 55401 | 67,630.00
Olmsted County HRA | 2117 Campus Drive SE | Rochester | MN | 55904 | 55,652.00
Bloomington HRA | 1800 W Old Shakopee Road | Bloomington | MN | 55431 | 18,573.00
Itasca County HRA | 1115 NW 4th Street | Grand Rapids | MN | 55744 | 17,026.00
Metropolitan Council HRA | 390 North Robert Street | St. Paul | MN | 55101 | 117,660.00
Rice County HRA | 320 NW 3rd Street | Faribault | MN | 55021 | 14,426.00
Housing Authority of the City of Saint Joseph | 2902 South 36th Street | St Joseph | MO | 64503 | 5,343.00
Boone County PHA | 800 N Providence Road | Columbia | MO | 65203 | 31,356.00
Lincoln County Public Housing Agency | 815 N Bus Hwy. 61 | Bowling Green | MO | 63334 | 18,202.00
Howell County Housing Authority | 710 E Main St | West Plains | MO | 65775 | 18,455.00
Housing Authority Tennessee Valley | 1210 Proper Street | Corinth | MS | 38834 | 25,871.00
Jackson Housing Authority | 2747 Livingston Road | Jackson | MS | 39213 | 34,621.00
Butte Housing Authority | 220 Curtis Street | Butte | MT | 59701 | 20,960.00
Housing Authority of Durham | 330 E Main Street | Durham | NC | 27701 | 9,035.00
Orange County | 300 W Tryon Street | Hillsborough | NC | 27278 | 39,053.00
Dover Housing Authority | 62 Whittier Street | Dover | NH | 03820 | 27,658.00
Concord Housing Authority | 23 Green Street | Concord | NH | 03301 | 7,749.00
Rochester Housing Authority | 77 Olde Farm Lane | Rochester | NH | 03857 | 19,434.00
Keene Housing | 831 Court Street | Keene | NH | 03431 | 52,318.00
Newark Housing Authority | 500 Broad Street | Newark | NJ | 07102 | 297,048.00
Housing Authority of the City of Camden | 2021 Watson Street | Camden | NJ | 08105 | 189,854.00
San Juan County Housing Authority | 7450 East Main | Farmington | NM | 87402 | 9,564.00
El Camino Real Housing Authority | P.O. Box 00 | Socorro | NM | 87801 | 26,972.00
Northern Regional Ha | 525 Ranchitos Road, Unit 962 | Taos | NM | 87571 | 17,586.00
Town of Brookhaven Dept of Housing Comm Development | One Independence Hill | Farmingville | NY | 11738 | 17,718.00
City of Buffalo | 470 Franklin St | Buffalo | NY | 14202 | 25,044.00
NYS Housing Trust Fund Corporation | Nys Hcr Statewide Section 8 Program | New York | NY | 10004 | 35,283.00
Erie MHA | 322 Warren Street | Sandusky | OH | 44870 | 20,049.00
Portage MHA | 2832 State Route 59 | Ravenna | OH | 44266 | 7,314.00
Housing Authority of Lincoln County | 1039 Nw Nye Street | Newport | OR | 97365 | 6,812.00
Homes For Good Housing Agency | 100 W 13th Ave | Eugene | OR | 97401 | 26,761.00
Housing Authority of Washington County | 161 Nw Adams Ave., Suite 2000, Ms63 | Hillsboro | OR | 97124 | 112,927.00
Beaver County Housing Authority | 300 State Street | Beaver | PA | 15009 | 16,136.00
Lycoming County Housing Authority | 1941 Lincoln Drive | Williamsport | PA | 17701 | 6,008.00
Carbondale Housing Authority | 2 John Street | Carbondale | PA | 18407 | 17,328.00
Housing Authority of Mifflin County | 141 S Pine Road | Lewistown | PA | 17044 | 4,609.00
East Providence Housing Authority | 99 Goldsmith Avenue | East Providence | RI | 02914 | 237,990.00
Laredo Housing Authority | 2000 San Francisco Avenue | Laredo | TX | 78040 | 19,036.00
Galveston Housing Authority | 4700 Broadway Street | Galveston | TX | 77551 | 42,946.00
San Benito Housing Authority | 1400 N Reagan Street | San Benito | TX | 78586 | 5,881.00
Housing Authority of Port Arthur | 920 Dequeen Boulevard | Port Arthur | TX | 77640 | 8,152.00
Pharr Housing Authority | 104 W Polk | Pharr | TX | 78577 | 30,254.00
Housing Authority of Abilene | 1149 E South 11th Street | Abilene | TX | 79602 | 58,968.00
Housing Authority of El Paso County | 650 East G. Street | Fabens | TX | 79838 | 154,431.00
Bexar County Housing Authority | 1954 E Houston Street, Suite 104 | San Antonio | TX | 78202 | 209,592.00
Longview Housing & Comm. Development | 1202 North Sixth Street | Longview | TX | 75601 | 72,492.00
Rosenberg Housing Authority | 117 Lane Drive, Suite 18 | Rosenberg | TX | 77471 | 58,775.00
Deep East Tx Council of Govts | 1405 Kurth Dr | Lufkin | TX | 75904 | 77,295.00
Midland County Housing Authority | 1710 Edwards Street | Midland | TX | 79701 | 9,858.00
City of Virginia Beach | 2424 Courthouse Dr | Virginia Beach | VA | 23456 | 45,403.00
Burlington Housing Authority | 65 Main Street | Burlington | VT | 05401 | 71,716.00
Seattle Housing Authority | 190 Queen Anne Ave N | Seattle | WA | 98109 | 251,346.00
Housing Authority of the City of Bremerton | 600 Park Avenue | Bremerton | WA | 98337 | 151,748.00
Bellingham Housing Authority | 208 Unity Street | Bellingham | WA | 98225 | 36,814.00
Housing Authority of Snohomish County | 12711 4th Avenue West | Everett | WA | 98204 | 29,359.00
Housing Authority City of Superior | 1219 North 8th Street | Superior | WI | 54880 | 4,700.00
Housing Authority of the City of Milwaukee | 809 North Broadway | Milwaukee | WI | 53202 | 68,284.00
Janesville CDA | 18 North Jackson Street | Janesville | WI | 53547 | 36,370.00
Sawyer County Housing Authority | 15918 West 5th Street | Hayward | WI | 54843 | 3,981.00
Beloit CDA | 210 Portland Ave | Beloit | WI | 53511 | 6,074.00
Point Pleasant Housing Authority | 404 Second Street | Point Pleasant | WV | 25550 | 4,240.00
Total |  |  |  |  | 7,215,489.00

Appendix G

FY22 HUD-Veterans Affairs Supportive Housing (HUD-VASH) (PIH Notice 2022-26)
[Contact: Jerrianne Anthony (202) 402-2677]
Organization name | Street address | City | State | Zip code | Award Amount
City of Hartford Housing Authority | 250 Constitution Plaza, 4th Floor | Hartford | CT | 06103 | 293,976.00
Boston Housing Authority | 52 Chauncy Street | Boston | MA | 02111 | 112,135.00
Cambridge Housing Authority | 362 Green Street 3rd Floor | Cambridge | MA | 02139 | 181,858.00
Quincy Housing Authority | 80 Clay Street | Quincy | MA | 02170 | 77,168.00
Milton Housing Authority | 65 Miller Avenue | Milton | MA | 02186 | 173,306.00
Department of Housing & Community Development | 100 Cambridge Street, Suite 300 | Boston | MA | 02114 | 135,926.00
Department of Housing & Community Development | 100 Cambridge Street, Suite 300 | Boston | MA | 02114 | 1,062,692.00
Lewiston Housing Authority | 1 College Street | Lewiston | ME | 04240 | 64,016.00
State of NJ Dept. of Comm. Affairs | 101 South Broad Street P.O. Box 051 | Trenton | NJ | 08625 | 201,543.00
Long Branch Housing Authority | Garfield Court | Long Branch | NJ | 07740 | 162,458.00
Housing Authority of the County of Cumberland | 114 N Hanover Street | Carlisle | PA | 17013 | 84,265.00
Adams County Housing Authority | 40 E High Street | Gettysburg | PA | 17325 | 56,226.00
Fairfax County Redevelopment & Hsg Authority | 3700 Pender, Drive Suite 300 | Fairfax | VA | 22030 | 415,494.00
Housing Authority of the City of Parkersburg | 1901 Cameron Avenue | Parkersburg | WV | 26101 | 26,769.00
Housing Authority of the City of Asheville | 165 S French Broad Ave | Asheville | NC | 28801 | 210,456.00
Western Carolina Community Action, Inc. | 220 King Creek Blvd | Hendersonville | NC | 28792 | 30,006.00
Western Piedmont Council of Governments | 1880 2nd Avenue NW | Hickory | NC | 28601 | 23,476.00
Isothermal Planning & Development Commission | Post Office Box 841 | Rutherfordton | NC | 28139 | 23,360.00
Richmond Redevelopment & Housing Authority | 901 Chamberlayne Parkway | Richmond | VA | 23220 | 40,680.00
Virginia Housing Development Authority | 601 South Belvidere Street | Richmond | VA | 23220 | 315,641.00
Roanoke Redevelopment & Housing Authority | 2624 Salem Turnpike NW | Roanoke | VA | 24017 | 36,622.00
Staunton Redevelopment & Housing Authority | 900 Elizabeth Miller Gardens | Staunton | VA | 24401 | 33,703.00
Housing Authority of Rock Hill | 467 S Wilson St | Rock Hill | SC | 29730 | 68,852.00
Jacksonville Housing Authority | 1300 N Broad Street | Jacksonville | FL | 32202 | 31,178.00
Housing Authority of the City of St. Petersburg | 2001 Gandy Boulevard North | St. Petersburg | FL | 33702 | 445,356.00
Housing Authority of the City of Lakeland | 430 Hartsell Avenue | Lakeland | FL | 33815 | 70,071.00
Winter Haven Housing Authority | 2670 Avenue C SW | Winter Haven | FL | 33880 | 134,903.00
Citrus County Housing Services | 2804 W Marc Knighton Ct. Key #12 | Lecanto | FL | 34461 | 58,102.00
Seminole County Housing Authority | 662 Academy Place | Oviedo | FL | 32765 | 253,641.00
Lake County Housing Agency | 2008 Classique Lane | Tavares | FL | 32778 | 356,143.00
Osceola County Housing Agency | 330 N Beamont Avenue | Kissimmee | FL | 34741 | 64,151.00
Brown Metropolitan Housing Authority | 406 West Plum Street | Georgetown | OH | 45121 | 20,600.00
Kentucky Housing Corporation-State Agency | 1050 US 127 South | Frankfort | KY | 40601 | 58,620.00
Akron Metropolitan Housing Authority | 100 W Cedar Street | Akron | OH | 44307 | 155,474.00
Peoria Housing Authority | 100 S Richard Pryor Place | Peoria | IL | 61605 | 25,161.00
Indiana Housing and Community Development Authority | 30 S Meridian St. Suite 900 | Indianapolis | IN | 46204 | 93,984.00
Hot Springs Housing Authority | 1004 Illinois Street | Hot Springs | AR | 71901 | 35,970.00
Panama City Housing Authority | 2315 Ruth Hentz Avenue | Panama City | FL | 32405 | 78,836.00
Ark-Tex Council of Governments Housing Authority | 4808 Elizabeth Street | Texarkana | TX | 75501 | 21,324.00
San Angelo Housing Authority | 420 East 28th Street | San Angelo | TX | 76903 | 42,448.00
Housing Authority of Fort Worth | 1201 E 13th Street | Fort Worth | TX | 76102 | 192,900.00
Housing Authority of the City of Dallas, Texas | 3939 N Hampton Road | Dallas | TX | 75212 | 95,555.00
Denton Housing Authority | 1225 Wilson | Denton | TX | 76205 | 109,526.00
Tarrant County Housing Assistance Office | 2100 Circle Drive, #200 | Fort Worth | TX | 76119 | 184,113.00
City of Mesquite Housing Office | 1616 N Galloway Avenue | Mesquite | TX | 75149 | 51,683.00
San Marcos Housing Authority | 1201 Thorpe Lane | San Marcos | TX | 78666 | 66,570.00
Brazos Valley Council of Governments | 3991 E 29th Street | Bryan | TX | 77802 | 172,920.00
Corpus Christi Housing Authority | 3701 Ayers Street | Corpus Christi | TX | 78415 | 37,404.00
Garfield County Housing Authority | 1430-F Railroad Avenue | Rifle | CO | 81650 | 50,598.00
Housing Authority of the County of Salt Lake | 3595 S Main Street | Salt Lake City | UT | 84115 | 41,914.00
Weber Housing Authority | 237 26th Street, Suite 224 | Ogden | UT | 84401 | 122,914.00
Housing Authority of the City of Salem | 360 Church Street SE | Salem | OR | 97301 | 183,924.00
Linn-Benton Housing Authority | 1250 SE Queen Ave | Albany | OR | 97322 | 142,923.00
Housing Authority City of Longview | 820 11th Avenue | Longview | WA | 98632 | 77,192.00
Housing Authority & Comm Svcs of Lane Co | 100 W 13th Ave | Eugene | OR | 97401 | 366,216.00
Seattle Housing Authority | 190 Queen Anne Ave N P.O. Box 19028 | Seattle | WA | 98109 | 1,158,996.00
Housing Authority of King County | 600 Andover Park West | Seattle | WA | 98188 | 1,237,812.00
Housing Authority of Thurston County | 1206 12th Avenue SE | Olympia | WA | 98501 | 217,038.00
Housing Authority of Skagit County | 1650 Port Drive | Burlington | WA | 98233 | 213,939.00
Housing Authority of the City of Kennewick | 1915 W 4th Place | Kennewick | WA | 99336 | 136,690.00
County of Sacramento Housing Authority | 801 12th Street | Sacramento | CA | 95814 | 99,113.00
Housing Authority of the County Contra Costa | 3133 Estudillo Street | Martinez | CA | 94553 | 779,885.00
Housing Authority of the County of Stanislaus | 1701 Robertson Rd | Modesto | CA | 95351 | 72,784.00
Housing Authority of the County of Yolo | 147 West Main Street | Woodland | CA | 95695 | 146,454.00
Regional Housing Authority | 1455 Butte House Rd | Yuba City | CA | 95993 | 57,524.00
Housing Authority of the City of Redding | 777 Cypress Avenue | Redding | CA | 96001 | 26,618.00
City of Vacaville | 40 Eldridge Avenue #2 | Vacaville | CA | 95688 | 282,334.00
City of Roseville | 316 Vernon Street, Suite 150 | Roseville | CA | 95678 | 91,586.00
Housing Authority of the County of San Mateo | 264 Harbor Boulevard Building A | Belmont | CA | 94002 | 107,927.00
Housing Authority of County of Marin | 4020 Civic Center Drive | San Rafael | CA | 94903 | 105,149.00
County of Sonoma | 1440 Guerneville Road | Santa Rosa | CA | 95403 | 66,622.00
City of Santa Rosa | 90 Santa Rosa Ave | Santa Rosa | CA | 95402 | 127,752.00
Housing Authority of the County of San Mateo | 264 Harbor Boulevard Building A | Belmont | CA | 94002 | 107,927.00
Housing Auth. of the County of San Joaquin | 2575 Grand Canal Blvd | Stockton | CA | 95203 | 108,531.00
Santa Clara County Housing Authority | 505 W Julian St | San Jose | CA | 95110 | 717,062.00
Housing Authority of the County of Alameda | 22941 Atherton St | Hayward | CA | 94541 | 330,017.00
Santa Cruz County Housing Authority | 2160 41st Avenue | Santa Cruz | CA | 95060 | 885,246.00
Housing Authority of the City of Livermore | 3203 Leahy Way | Livermore | CA | 94550 | 94,116.00
Guam Housing & Urban Renewal Authority | 117 Bien Venida Ave | Sinajana | GU | 96910 | 116,081.00
City and County of Honolulu | 842 Bethel St. 1st Flr | Honolulu | HI | 96813 | 126,172.00
Kauai County Housing Agency | 4444 Rice Street, Suite 330 | Lihue | HI | 96766 | 94,728.00
Hawaii Public Housing Authority | 1002 North School Street | Honolulu | HI | 96817 | 110,243.00
Housing Authority of the City of Los Angeles | 2600 Wilshire Blvd | Los Angeles | CA | 90057 | 3,252,780.00
Housing Authority of the County of Los Angeles | 700 W Main St | Alhambra | CA | 91801 | 3,360,030.00
City of Long Beach Housing Authority | 521 East 4th Street | Long Beach | CA | 90802 | 1,200,615.00
Orange County Housing Authority | 1770 North Broadway | Santa Ana | CA | 92706 | 155,460.00
City of Glendale Housing Authority | 6842 N 61ST Avenue | Glendale | AZ | 85301 | 208,975.00
Chandler Housing & Redevelopment Division | 235 S. Arizona Avenue | Chandler | AZ | 85225 | 140,651.00
Tempe Housing Authority | 3500 S Rural Road Second Floor | Tempe | AZ | 85282 | 96,227.00
Mohave County Housing Authority | 700 W Beale Street | Kingman | AZ | 86401 | 32,300.00
Arizona Department of Housing | 1110 West Washington Street Suite 310 | Phoenix | AZ | 85007 | 562,918.00
San Diego Housing Commission | 1122 Broadway, Suite 300 | San Diego | CA | 92101 | 352,320.00
Imperial Valley Housing Authority | 1402 D Street | Brawley | CA | 92227 | 53,854.00
City of Sioux City Housing Authority | 405 6th St.—#107 | Sioux City | IA | 51101 | 21,139.00
Public Housing Agency of the City of St Paul | 555 N Wabasha Street Suite 400 | Saint Paul | MN | 55102 | 150,972.00
Housing Authority of St. Louis Park, Minnesota | 5005 Minnetonka Boulevard | Saint Louis Park | MN | 55416 | 100,625.00
Olmsted County HRA | 2117 Campus Drive SE Suite 300 | Rochester | MN | 55904 | 27,665.00
Metropolitan Council | 390 North Robert Street | St. Paul | MN | 55101 | 252,436.00
Washington County CDA | 7645 Currell Boulevard | Woodbury | MN | 55125 | 42,593.00
Housing Authority of the City of Superior | 1219 North 8th Street | Superior | WI | 54880 | 24,468.00
Moline Housing Authority | 11th Avenue A | Moline | IL | 61265 | 46,526.00
Total |  |  |  |  | 25,373,842.00

Appendix H

FY22 PIH Notice 2022-19: Mainstream Vouchers
[Contact: Emily Warren, 202-402-7515]
Organization name | Street address | City | State | Zip | Award amount
Alaska Housing Finance Corporation | P.O. Box 101020 | Anchorage | AK | 99510 | $282,850
Johnson County Public Housing Agency | P.O. Box 353 | Clarksville | AR | 72830 | 20,000
Oakland Housing Authority | 1619 Harrison St | Oakland | CA | 94612 | 1,088,456
Housing Authority of the City of Los Angeles | 2600 Wilshire Blvd., 3rd Floor | Los Angeles | CA | 90057 | 145,500
County of Contra Costa Housing Authority | 3133 Estudillo St., P.O. Box 2759 | Martinez | CA | 94553 | 1,226,436
Housing Authority of the City of San Buenaventura | 995 Riverside Street | Ventura | CA | 93001 | 437,659
Housing Authority of County of Marin | 4020 Civic Center Drive | San Rafael | CA | 94903 | 825,440
City of Berkeley Housing Authority | 1947 Center Street, 5th Floor | Berkeley | CA | 94704 | 684,103
Housing Authority of the County Santa Clara | 505 West Julian St | San Jose | CA | 95110 | 1,183,788
Housing Authority of the City of San Luis Obispo | P.O. Box 1289, 487 Leffe Street | San Luis Obispo | CA | 93406 | 462,005
Carlsbad Housing & Neighborhood Services | 1200 Carlsbad Village Drive | Carlsbad | CA | 92008 | 216,276
County of Sonoma | 1440 Guerneville Road | Santa Rosa | CA | 95403 | 500,413
Orange County Housing Authority | 1501 E St. Andrew Place | Santa Ana | CA | 92705 | 1,060,750
County of Shasta Housing Authority | 1670 Market Street, Suite 300 | Redding | CA | 96001 | 16,500
Imperial Valley Housing Authority | 1401 D Street | Brawley | CA | 92227 | 142,358
Boulder Housing Partners | 4800 Broadway | Boulder | CO | 80304 | 127,466
Fort Collins Housing Authority | 1715 W Mountain Ave | Fort Collins | CO | 80521 | 430,776
Grand Junction Housing Authority | 1011 North Tenth Street | Grand Junction | CO | 81501 | 215,791
Jefferson County Housing Authority | 7490 West 45th Avenue | Wheatridge | CO | 80033 | 75,000
Housing Authority of the City of Norwalk | 24 ½ Monroe Street | Norwalk | CT | 06856 | 50,000
Stamford Housing Authority | 22 Clinton Ave | Stamford | CT | 06901 | 714,258
Wallingford Housing Authority | 45 Tremper Drive | Wallingford Town | CT | 64920 | 10,000
Connecticut Department of Social Services | 505 Hudson Street | Hartford | CT | 06106 | 543,948
Community Connections | 801 Pennsylvania Ave., SE 201 | Washington | DC | 20003 | 135,571
Tampa Housing Authority | 5301 West Cypress St | Tampa | FL | 33607 | 477,816
Orlando Housing Authority | 390 North Bumby Avenue | Orlando | FL | 32803 | 288,648
Miami-Dade Housing Agency | 701 NW 1st Court, 16th Floor | Miami | FL | 33136 | 986,098
Housing Authority of the City of Lakeland | P.O. Box 1009, 430 S Hartsell Avenue | Lakeland | FL | 33815 | 22,500
Housing Authority of New Smyrna Beach | P.O. Box 688 | New Smyrna Beach | FL | 32170 | 69,000
Seminole County Housing Authority | 662 Academy Place | Oviedo | FL | 32765 | 103,955
Pinellas County Housing Authority | 11479 Ulmerton Road | Largo | FL | 33778 | 37,500
Deland Housing Authority | 1450 South Woodland Boulevard, Suite 200A | De Land | FL | 32720 | 89,903
HA Lee County | 14170 Warner Circle NW | North Fort Myers | FL | 33903 | 95,676
Housing Authority of the City of Atlanta Georgia | 230 John Wesley Dobbs Ave. NE | Atlanta | GA | 30303 | 705,462
Guam Housing & Urban Renewal Authority | 117 Bien Venida Avenue | Sinajana | GU | 96926 | 221,201
Municipal Housing Agency of Council Bluffs | 505 South Sixth Street | Council Bluffs | IA | 51503 | 60,114
Eastern Iowa Regional Housing Authority | 7600 Commerce Park | Dubuque | IA | 52002 | 39,500
Housing Authority of the City of Pocatello | P.O. Box 4161 | Pocatello | ID | 83205 | 62,525
Chicago Housing Authority | 60 East Van Buren St., 11th Floor | Chicago | IL | 60605 | 725,312
Housing Authority of the County of Cook | 175 West Jackson Boulevard, Suite 350 | Chicago | IL | 60604 | 530,802
Winnebago County Housing Authority | 3617 Delaware Street | Rockford | IL | 61102 | 71,686
Kokomo Housing Authority | 219 E Taylor St., P.O. Box 1207 | Kokomo | IN | 46903 | 12,500
Thibodaux City | P.O. Box 5418 | Thibodaux | LA | 70302 | 57,404
Louisiana Housing Authority | 150 N Third Street | Baton Rouge | LA | 70801 | 95,000
Boston Housing Authority | 52 Chauncy Street | Boston | MA | 21110 | 205,000
Chelsea Housing Authority | 54 Locke Street | Chelsea | MA | 21500 | 229,434
Taunton Housing Authority | 30 Olney Street-Suite B | Taunton | MA | 27804 | 481,443
Dedham Housing Authority | 163 Dedham Blvd | Dedham | MA | 20262 | 171,049
Yarmouth Housing Authority | Long Pond Plaza | South Yarmouth | MA | 02664 | 118,266
Milton Housing Authority | 65 Miller Ave | Milton | MA | 21864 | 19,500
Sandwich Housing Authority | 20 Tom's Way | Sandwich Town | MA | 25631 | 75,500
Community Teamwork, Inc | 155 Merrimack Street | Lowell | MA | 01852 | 173,456
Housing Authority of Baltimore City | 417 East Fayette Street | Baltimore | MD | 21201 | 58,000
Frederick Housing Authority | 209 Madison Street | Frederick | MD | 21701 | 113,788
Housing Authority of Calvert County | 480 Main Street | Prince Frederick | MD | 20678 | 105,840
Carroll County Housing and Community Dev | 10 Distillery Drive, Suite 101 | Westminster | MD | 21157 | 89,389
Baltimore County, MD | Drumcastle Govt. Center, 6401 York Road, 1st Floor | Baltimore | MD | 21212 | 648,762
Fort Fairfield Housing Authority | 18 Fields Lane | Fort Fairfield | ME | 04742 | 29,639
Portland Housing Authority | 14 Baxter Boulevard | Portland | ME | 04101 | 267,012
Lewiston Housing Authority | 1 College Street | Lewiston | ME | 04240 | 69,500
Brunswick Housing Authority | P.O. Box A | Brunswick | ME | 04011 | 75,492
The Housing Authority of the City of Westbrook | 30 Liza Harmon Drive | Westbrook | ME | 40924 | 109,967
Biddeford Housing Authority | P.O. Box 2287 | Biddeford | ME | 40050 | 102,280
Augusta Housing Authority | 33 Union Street, Suite 3 | Augusta | ME | 43300 | $96,314
Michigan State Housing Development Authority | P.O. Box 30044 | Lansing | MI | 48909 | 89,500
Itasca County HRA | 1115 NW 4th St | Grand Rapids | MN | 55744 | 54,703
Plymouth Housing & Redevelopment Authority | 3400 Plymouth Boulevard | Plymouth | MN | 55447 | 95,740
Washington County HRA | 7645 Currell Boulevard | Woodbury | MN | 55125 | 94,346
St. Louis Housing Authority | 3520 Page Boulevard | St. Louis | MO | 63106 | 386,574
Housing Authority of Kansas City, Missouri | 3822 Summit | Kansas City | MO | 64111 | 50,000
St. Joseph Housing Authority | 502 S 10th St., Box 1153 | St Joseph | MO | 64502 | 79,876
Housing Authority of the City of Columbia, MO | 201 Switzler Street | Columbia | MO | 65203 | 40,618
Springfield Housing Authority | 421 West Madison St | Springfield | MO | 65806 | 41,317
Boone County Public Housing Agency | 807 B North Providence Road | Columbia | MO | 65203 | 66,540
Mississippi Regional Housing Authority No. IV | P.O. Box 1051 | Columbus | MS | 39703 | 128,070
The Housing Authority of the City of Jackson | 2747 Livingston Road, P.O. Box 11327 | Jackson | MS | 39283 | 19,500
Housing Authority of Billings | 2415 1st Ave., North | Billings | MT | 59101 | 20,000
Housing Authority of the County of Wake | 100 Shannon Street, P.O. Box 399 | Zebulon | NC | 27597 | 122,225
Housing Authority of the City of Greenville | 1103 Broad Street, P.O. Box 1426 | Greenville | NC | 27834 | 102,360
Sandhills Community Action Program, Inc | 103 Saunders Street, P.O. Box 937 | Carthage | NC | 28327 | 50,789
Western Piedmont Council of Governments | P.O. Box 9026 | Hickory | NC | 28603 | 123,000
Northwestern Regional Housing Authority | Addison Exe. Office Bldg., 869 Hwy., 105 Ext or P.O. Box 2510 | Boone | NC | 28607 | 219,807
Housing Authority of Cass County | 230 8th Ave. West | West Fargo | ND | 58078 | 20,000
Stark County Housing Authority | 1149 West Villard, P.O. Box 107 | Dickinson | ND | 58602 | 10,000
Lincoln Housing Authority | 5700 “R” St., P.O. Box 5327 | Lincoln | NE | 68505 | 73,500
New Hampshire Housing Finance Agency | P.O. Box 5087 | Manchester | NH | 31085 | 296,572
North Bergen Housing Authority | 6121 Grand Avenue | North Bergen | NJ | 70475 | 172,363
Bayonne Housing Authority | 50 East 21st Street | Bayonne | NJ | 70023 | 137,376
Hunterdon County Division of Housing | Administration Building, 8 Gauntt Place, P.O. Box 2900 | Flemington | NJ | 88221 | 139,337
Union County Housing Authority | Administration Building, One Elizabethtown Plaza | Elizabeth | NJ | 72079 | 20,000
Community Enterprises Corporation | 11 Spring Street | Freehold | NJ | 07728 | 45,000
Housing Authority of the County of Santa Fe | 52 Camino De Jacobo | Santa Fe | NM | 87507 | 14,500
Buffalo Municipal Housing Authority | 300 Perry Street | Buffalo | NY | 14204 | 79,751
Village of Kaser | 15 Elyon Rd | Monsey | NY | 10952 | 187,625
NYS Housing Trust Fund Corporation | 38-40 State Street | Albany | NY | 12207 | 525,660
Cuyahoga Metropolitan Housing Authority | 8120 Kinsman Road | Cleveland | OH | 44104 | 72,500
Akron Metropolitan Housing Authority | 100 W Cedar Street | Akron | OH | 44307 | 286,494
Lake Metropolitan Housing Authority | 189 First Street | Painesville | OH | 44077 | 63,920
Medina Metropolitan Housing Authority | 850 Walter Road | Medina | OH | 44256 | 89,730
City of Marietta | 304 Putnam Street | Marietta | OH | 45750 | 40,825
Housing Authority of the City of Oklahoma City | 1700 NE Fourth Street | Oklahoma City | OK | 73117 | 307,050
Housing Authority of Clackamas County | P.O. Box 1510 | Oregon City | OR | 97045 | 361,166
Housing Authority of Lincoln County | P.O. Box 1470 | Newport | OR | 97365 | 64,068
Housing Authority & Comm Svcs of Lane Co | 177 Day Island Rd | Eugene | OR | 97401 | 237,654
Housing Authority of Yamhill County | 135 NE Dunn Place, P.O. Box 865 | McMinnville | OR | 97128 | 108,000
Klamath Housing Authority | P.O. Box 5110 | Klamath Falls | OR | 97601 | 44,089
Housing Authority of Washington County | 111 NE Lincoln St., Suite 200-L, Ms63 | Hillsboro | OR | 97124 | 89,000
Philadelphia Housing Authority | 12 South 23rd Street | Philadelphia | PA | 19103 | 426,486
Allegheny County Housing Authority | 625 Stanwix St., 12th Floor | Pittsburgh | PA | 15222 | 62,000
Housing Authority of the County of Huntingdon | 100 Federal Drive | Mount Union | PA | 17066 | 46,106
Housing Authority of the County of Dauphin | 501 Mohn Street, P.O. Box 7598 | Steelton | PA | 17113 | 47,000
Housing Authority of the County of Jefferson | 201 N Jefferson Street | Punxsutawney | PA | 15767 | 46,900
Housing Authority of the County of Union | 1610 Industrial Blvd., Suite 400 | Lewisburg | PA | 17837 | 93,469
Housing Authority of the City of Pawtucket | 214 Roosevelt Ave., P.O. Box 1303 | Pawtucket | RI | 28620 | 50,500
Municipality of Vega Baja | P.O. Box 4555 | Vega Baja | PR | 69445 | 62,000
Housing Authority of Myrtle Beach | P.O. Box 2468 | Myrtle Beach | SC | 29578 | 158,923
Housing Authority of Newberry | P.O. Drawer 737 | Newberry | SC | 29108 | 20,000
SC State Housing Authority | 300-C Outlet Pointe Blvd | Columbia | SC | 29210 | 37,500
Aberdeen Housing and Redevelopment Commission | 2324 3rd Ave. SE | Aberdeen | SD | 57401 | 20,000
Knoxville's Community Development Corp | P.O. Box 3550 | Knoxville | TN | 37927 | 120,000
Chattanooga Housing Authority | P.O. Box 1486 | Chattanooga | TN | 37402 | 63,500
East Tennessee Human Resource Agency | 9111 Cross Park Drive, Suite D100 | Knoxville | TN | 37923 | 48,703
Tennessee Housing Development Agency | 502 Deaderick Street, 3rd Floor | Nashville | TN | 37243 | 89,500
Austin Housing Authority | P.O. Box 41119 | Austin | TX | 78704 | 563,736
Housing Authority of Fort Worth | P.O. Box 430, 1201 E 13th St | Fort Worth | TX | 76101 | 462,378
San Antonio Housing Authority | 818 S Flores Street, P.O. Box 1300 | San Antonio | TX | 78295 | 350,298
Brownsville Housing Authority | P.O. Box 4420 | Brownsville | TX | 78523 | 8,500
Housing Authority of the City of Dallas, Texas | 3939 N Hampton Rd | Dallas | TX | 75212 | 148,500
City of Mesquite Housing Office | 1515 N Galloway P.O. Box 850137 | Mesquite | TX | 75185 | 12,500
Bexar County Housing Authority | 1017 N Main Ave., Suite 201 | San Antonio | TX | 78212 | 39,000
Bear River Regional Housing Authority | 170 North Main | Logan | UT | 84321 | 40,351
Richmond Redevelopment & Housing Authority | 901 Chamberlayne Parkway, P.O. Box 26887 | Richmond | VA | 23261 | 76,500
Danville Redevelopment & Housing Authority | P.O. Box 1476 | Danville | VA | 24543 | 92,000
Roanoke Redevelopment & Housing Authority | P.O. Box 6359, 2624 Salem Turnpike NW | Roanoke | VA | 24017 | 174,521
Chesapeake Redevelopment & Housing Authority | 1468 S Military Highway | Chesapeake | VA | 23327 | 63,500
Lynchburg Redevelopment & Housing Authority | P.O. Box 1298, 918 Commerce Street | Lynchburg | VA | 24505 | 228,485
Fairfax County Redevelopment & Housing Authority | 3700 Pender Drive, Suite 300 | Fairfax | VA | 22030 | 62,500
County of Albemarle/Office of Housing | 1600 5th Street, Suite B | Charlottesville | VA | 22902 | 47,500
People Inc. of Southwest Virginia | 1173 West Main St | Abingdon | VA | 24210 | 35,586
Virginia Housing Development Authority | 601 South Belvidere Street | Richmond | VA | 23220 | 502,140
Virgin Islands Housing Authority | P.O. Box 7668 | St. Thomas | VI | 80176 | 37,500
Rutland Housing Authority | 5 Tremont Street | Rutland | VT | 05701 | 110,731
Housing Authority City of Longview | 1207 Commerce Avenue | Longview | WA | 98632 | 225,013
Housing Authority of the City of Vancouver | 2500 Main Street, Suite 200 | Vancouver | WA | 98660 | 343,501
HA City of Kennewick | 1915 West 4th Place | Kennewick | WA | 99336 | 28,000
Housing Authority City of Bellingham | 208 Unity St., Lower Level, P.O. Box 9701 | Bellingham | WA | 98225 | 75,000
Housing Authority of Snohomish County | 12711 4th Ave. W | Everett | WA | 98204 | 496,028
Eau Claire County Housing Authority | 227 1st Street West | Altoona | WI | 54720 | 98,410
Housing Authority of the City of Parkersburg | 1901 Cameron Avenue | Parkersburg | WV | 26101 | 124,155
Housing Authority of Randolph County | P.O. Box 1579, 1404 N Randolph Ave | Elkins | WV | 26241 | 55,996
Total |  |  |  |  | 29,753,638

[FR Doc. 2024-16042 Filed 7-19-24; 8:45 am]

BILLING CODE 4210-67-P